DEPARTMENT OF COMMERCE

International Trade Administration

[A-533-502]

Welded Carbon Steel Standard Pipes and Tubes From India: Preliminary Results of Antidumping Duty Administrative Review; 2017-2018

AGENCY: Enforcement and Compliance, International Trade Administration, Department of Commerce.

SUMMARY: The Department of Commerce (Commerce) preliminarily finds that producers or exporters subject to this administrative review made sales of subject merchandise at less than normal value during the period of review (POR) May 1, 2017 through April 30, 2018. We invite interested parties to comment on these preliminary results.

DATES: Applicable July 16, 2019.

FOR FURTHER INFORMATION CONTACT: Dmitry Vladimirov, Office I, Enforcement and Compliance, International Trade Administration, U.S. Department of Commerce, 1401 Constitution Avenue NW, Washington, DC 20230; telephone: (202) 482-0665.

SUPPLEMENTARY INFORMATION:

Background

Commerce is conducting an administrative review of the antidumping duty order on welded carbon steel standard pipes and tubes (pipe and tube) from India. Commerce exercised its discretion to toll all deadlines affected by the partial federal government closure from December 22, 2018 through the resumption of operations on January 29, 2019.¹

¹ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

The review covers 27 producers or exporters of the subject merchandise. We selected Apl Apollo Tubes Limited (Apollo) and Garg Tube Export LLP for individual examination.

Scope of the Order

The merchandise subject to the order is pipe and tube. The pipe and tube subject to the order is currently classifiable under subheadings 7306.30.1000, 7306.30.5025, 7306.30.5032, 7306.30.5040, 7306.30.5055, 7306.30.5085, 7306.30.5090 of the Harmonized Tariff Schedule of the United States (HTSUS). While the HTSUS subheadings are provided for convenience and customs purposes, the written description is dispositive. A full description of the scope of the order is contained in the Preliminary Decision Memorandum.²

² See Memorandum, “Welded Carbon Steel Standard Pipes and Tubes from India: Decision Memorandum for Preliminary Results of Antidumping Duty Administrative Review; 2017-2018,” dated concurrently with, and hereby adopted by this notice (Preliminary Decision Memorandum).

Use of Facts Otherwise Available

We determine that the use of facts otherwise available with an adverse inference is appropriate for these preliminary results with respect to Apollo.³

³ For further discussion, see Preliminary Decision Memorandum, section titled “Application of Facts Available with an Adverse Inference.”

Treatment of Affiliated Parties as a Single Entity

We preliminarily determine that Garg Tube Export LLP and Garg Tube Limited, are affiliated as defined by section 771(33) of the Tariff Act of 1930, as amended (the Act), and should be treated as a single entity (herein after referred to as Garg Tube) for the purposes of Commerce's analysis in this administrative review.⁴

⁴ For further discussion, see Preliminary Decision Memorandum, section titled “Affiliation and Collapsing.”

Methodology

Commerce conducted this review in accordance with section 751(a)(2) of the Act. Export price is calculated in accordance with section 772 of the Act. Normal value is calculated in accordance with section 773 of the Act. For a full description of the methodology underlying our conclusions, see Preliminary Decision Memorandum. The Preliminary Decision Memorandum is a public document and is made available to the public via Enforcement and Compliance's Antidumping and Countervailing Duty Centralized Electronic Service System (ACCESS). ACCESS is available to registered users at http://access.trade.gov and it is available to all parties in Commerce's Central Records Unit, located at Room B8024 of the main Commerce building. In addition, a complete version of the Preliminary Decision Memorandum can be found at http://enforcement.trade.gov/frn/index.html. A list of the topics discussed in the Preliminary Decision Memorandum is attached as an Appendix to this notice.

Preliminary Results of Review

We preliminarily determine that the following weighted-average dumping margins exist for the period May 1, 2017 through April 30, 2018.

Producer or exporter | Weighted- average dumping margin (percent)
Apl Apollo Tubes Limited | 87.39
Garg Tube Export LLP and Garg Tube Limited (collectively Garg Tube) | 18.55
Asian Contec Ltd | 18.55
Bhandari Foils & Tubes Ltd | 18.55
Bhushan Steel Ltd | 18.55
Blue Moon Logistics Pvt. Ltd | 18.55
CH Robinson Worldwide | 18.55
Ess-Kay Engineers | 18.55
Manushi Enterprise | 18.55
Nishi Boring Corporation | 18.55
Fiber Tech Composite Pvt. Ltd | 18.55
GCL Private Limited | 18.55
Goodluck India Ltd | 18.55
GVN Fuels Ltd | 18.55
Hydromatik | 18.55
Jindal Quality Tubular Ltd | 18.55
KLT Automatic & Tubular Products Ltd | 18.55
Lloyds Line Pipes Ltd | 18.55
MARINEtrans India Private Ltd | 18.55
Patton International Ltd | 18.55
SAR Transport Systems Pvt. Ltd | 18.55
Surya Global Steel Tubes Ltd | 18.55
Surya Roshni Ltd | 18.55
Welspun India Ltd | 18.55
Zenith Birla (India) Ltd | 18.55
Zenith Birla Steels Private Ltd | 18.55
Zenith Dyeintermediates Ltd | 18.55

Disclosure and Public Comment

We intend to disclose the calculations performed to parties in this proceeding within five days after public announcement of the preliminary results in accordance with 19 CFR 351.224(b).

Pursuant to 19 CFR 351.309(c), interested parties may submit case briefs not later than 30 days after the date of publication of this notice. Rebuttal briefs, limited to issues raised in the case briefs, may be filed not later than five days after the date for filing case briefs.⁵ Parties who submit case briefs or rebuttal briefs in this proceeding are encouraged to submit with each argument: (1) A statement of the issue; (2) a brief summary of the argument; and (3) a table of authorities.⁶

⁵ See 19 CFR 351.309(d).

⁶ See 19 CFR 351.303 (for general filing requirements).

Pursuant to 19 CFR 351.310(c), interested parties who wish to request a hearing, must submit a written request to the Acting Assistant Secretary for Enforcement and Compliance, filed electronically via ACCESS. Requests should contain: (1) The party's name, address and telephone number; (2) the number of participants; and (3) a list of issues to be discussed. Issues raised in the hearing will be limited to those raised in the respective case briefs. Commerce intends to issue the final results of this administrative review, including the results of its analysis of the issues raised in any written briefs, not later than 120 days after the date of publication of this notice, unless extended, pursuant to section 751(a)(3)(A) of the Act.

An electronically filed document must be received successfully in its entirety by Commerce's electronic records system, ACCESS, by 5 p.m. Eastern Time within 30 days after the date of publication of this notice.⁷

⁷ See 19 CFR 351.310(c).

Assessment Rates

Upon completion of the final results, Commerce shall determine and U.S. Customs and Border Protection (CBP) shall assess antidumping duties on all appropriate entries. If Garg Tube's weighted-average dumping margin is not zero or de minimis in the final results of this review, we will calculate an importer-specific assessment rate on the basis of the ratio of the total amount of dumping calculated for each importer's examined sales and the total entered value of such sales in accordance with 19 CFR 351.212(b)(1). If Garg Tube's weighted-average dumping margin is zero or de minimis in the final results of review, or if an importer-specific assessment rate is zero or de minimis, Commerce will instruct CBP to liquidate appropriate entries without regards to antidumping duties.

For entries of subject merchandise during the POR produced by Garg Tube for which it did not know its merchandise was destined for the United States, we will instruct CBP to liquidate unreviewed entries in accordance with the Final Modification for Reviews.⁸

⁸ See Antidumping Proceedings: Calculation of the Weighted-Average Dumping Margin and Assessment Rate in Certain Antidumping Proceedings: Final Modification, 77 FR 8101, 8102 (February 14, 2012) (Final Modification for Reviews).

For Apollo and the 25 companies which were not selected for individual examination,⁹ we will instruct CBP to assess antidumping duties at a rate equal to each company's weighted-average dumping margin in the final results of this review.¹⁰

⁹ These companies are Asian Contec Ltd., Bhandari Foils & Tubes Ltd., Bhushan Steel Ltd., Blue Moon Logistics Pvt. Ltd., CH Robinson Worldwide, Ess-Kay Engineers, Manushi Enterprise, Nishi Boring Corporation, Fiber Tech Composite Pvt. Ltd., GCL Private Limited, Goodluck India Ltd., GVN Fuels Ltd., Hydromatik, Jindal Quality Tubular Ltd., KLT Automatic & Tubular Products Ltd., Lloyds Line Pipes Ltd., MARINEtrans India Private Ltd., Patton International Ltd., SAR Transport Systems Pvt. Ltd., Surya Global Steel Tubes Ltd., Surya Roshni Ltd., Welspun India Ltd., Zenith Birla (India) Ltd., Zenith Birla Steels Private Ltd., and Zenith Dyeintermediates Ltd.

¹⁰ See Preliminary Decision Memorandum, section titled “Rates for Respondents Not Selected for Individual Examination.”

We intend to issue liquidation instructions to CBP fifteen days after publication of the final results of this review. The final results of this administrative review shall be the basis for the assessment of antidumping duties on entries of merchandise under review and for future cash deposits of estimated antidumping duties, where applicable.

Cash Deposit Requirements

The following cash deposit requirements will be effective upon publication in the Federal Register of the notice of final results of administrative review for all shipments of pipe and tube from India entered, or withdrawn from warehouse, for consumption on or after the date of publication as provided by section 751(a)(2) of the Act: (1) The cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will be the all-others rate established in the less-than-fair-value investigation for this proceeding, 7.08 percent.¹¹ These cash deposit requirements, when imposed, shall remain in effect until further notice.

¹¹ See Antidumping Duty Order; Certain Welded Carbon Steel Standard Pipes and Tubes from India, 51 FR 17384 (May 12, 1986).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and 19 CFR 351.221.

Dated: July 10, 2019.
Jeffrey I. Kessler,
Assistant Secretary for Enforcement and Compliance.

Appendix

List of Topics Discussed in the Preliminary Decision Memorandum

I. Summary

II. Background

III. Scope of the Order

IV. Application of Facts Available with an Adverse Inference

V. Affiliation and Collapsing

VI. Rates for Respondents Not Selected for Individual Examination

VII. Discussion of the Methodology

VIII. Currency Conversion

IX. Recommendation

[FR Doc. 2019-15074 Filed 7-15-19; 8:45 am]

BILLING CODE 3510-DS-P